DEPARTMENT OF LABOR

Office of Disability Employment Policy

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

Currently, the Office of Disability Employment Policy is soliciting comments concerning the proposed new collection of the data contained in the nomination packet for the Department of Labor's Inaugural New Freedom Initiative Award. A copy of the proposed information collection request (ICR) can be obtained by contacting the office listed below in the ADDRESSES section of this notice.

DATES: Written comments must be submitted to the office listed in the addresses section below on or before July 16, 2002.

ADDRESSES: Submit comments to Lisa Lahrman, Office of Disability Employment, United States Department of Labor, 200 Constitution Avenue, NW, Room N-4720, Washington, DC 20210, 202-693-3047 (this is not a toll free number), Internet Address: lahrman-lisa@dol.gov, and FAX: 202-693-2939.

FOR FURTHER INFORMATION CONTACT: Lisa Lahrman, tel.(202) 693-3047 This is not a toll free number.

SUPPLEMENTARY INFORMATION:

I. Background

This collection of information (solicitation of nominations to receive an award) is planned to honor individuals, corporations and non-profit organizations which have been exemplary in furthering the employment-related objectives of President George W. Bush's New Freedom Initiative. The New Freedom Initiative reflects the Administration's commitment to increasing development and access to assistive and universally designed technologies, expanding educational opportunities, further integrating Americans with disabilities into the workforce, and helping to remove barriers to their full participation in community life. Legal authority for this collection can be found in both the New Freedom itself, and by Pub. L. 106-554, the Consolidated Appropriations Act of 2001 which established the Office of Disability Employment Policy within the Department of Labor to bring a heightened and permanent focus on increasing the employment of persons with disabilities.

II. Review Focus

The Department of Labor is particularly interested in comments which:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submissions of responses.

III. Current Actions

To support ODEP's mission and recognize the employment of people with disabilities as an Administration priority, the Department of Labor is initiating the Inaugural New Freedom Initiative Award program. This award will be presented annually by the Secretary of Labor to honor individuals, corporations, and non-profit organizations which have been exemplary in furthering the employment related objectives of President George W. Bush's New Freedom Initiative.

Type of Review: New.

Agency: Department of Labor, Office of Disability Employment Policy.

Title: Inaugural New Freedom Initiative.

OMB Number: 1230-0NEW.

Agency Number:

Recordkeeping: None.

Affected Public: Individuals, businesses, non-profit organizations,and the federal government.

Form: Not Applicable.

Total Respondents: 100.

Frequency: Annually.

Total Responses: 100 nominations per year.

Average Time per Response: 10 hours.

Estimated Total Burden Hours: 1,000 Burden Hours.

Comments submitted in response to this comment request will be summarized and/or included in the request for Office of Management and Budget approval of the information collection request; they will also become a matter of public record.

Dated: May 13, 2002.
Lisa Lahrman,
Executive Assistant to the Assistant Secretary, Office of Disability Employment Policy.

[FR Doc. 02-12375 Filed 5-16-02; 8:45 am]

BILLING CODE 4510-CX-P